DEPARTMENT OF TRANSPORTATION

Federal Aviation Administration

Notice of Availability of the Federal Aviation Administration Record of Decision and Adoption of the Final Environmental Impact Statement for Modernization and Enhancement of Ranges, Airspace, and Training Areas in the Joint Pacific Alaska Range Complex in Alaska, for the Fox 3 Military Operations Area (MOA) Expansion and Paxon/Delta 5 MOA Establishment and Night Joint Training, Extending MOA Times of Use for the United States Air Force

AGENCY: Federal Aviation Administration, DOT.

ACTION: Notice of record of decision.

SUMMARY: The Federal Aviation Administration (FAA) announces its decision to adopt the United States Departments of the Army (Army) and Air Force's (USAF) Final Environmental Impact Statement (EIS) for the Modernization and Enhancement of Ranges, Airspace, and Training Areas in the Joint Pacific Alaska Range Complex (JPARC) in Alaska, EIS No. 20130181. In accordance with Section 102 of the National Environmental Policy Act of 1969 (“NEPA”), the Council on Environmental Quality's (“CEQ”) regulations implementing NEPA (40 CFR parts 1500-1508), and other applicable authorities, including The Federal Aviation Administration (FAA) Order 1050.1F, Environmental Impacts: Policies and Procedures, paragraph 8-2, and FAA Order JO 7400.2K, “Procedures for Handling Airspace Matters,” paragraph 32-2-3, the FAA has conducted an independent review and evaluation of the Army and the USAF's Final EIS for Modernization and Enhancement of Ranges, Airspace, and Training Areas in the JPARC in Alaska, dated June 2013. As a cooperating agency with responsibility for approving special use airspace (SUA) under 49 U.S.C. 40103(b)(3)(A), the FAA provided subject matter expertise and coordinated with the USAF and Army during the environmental review process, including preparation of the Draft EIS and the Final EIS. Based on its independent review and evaluation, the FAA has determined the Final EIS, including its supporting documentation, as incorporated by reference, and other supporting documentation incorporated by reference for FAA's Written Re-Evaluation and Adoption of the Final EIS adequately assesses and discloses the environmental impacts of the for Modernization and Enhancement of Ranges, Airspace, and Training Areas in the JPARC in Alaska. FAA is authorized to adopt the Final EIS under 40 CFR 1506.3, Adoption. Accordingly, the FAA adopts the Final EIS, and takes full responsibility for the scope and content that addresses the proposed changes to SUA for JPARC.

FOR FURTHER INFORMATION CONTACT: Paula Miller, Airspace Policy and Regulations Group, Office of Airspace Services, Federal Aviation Administration, 800 Independence Avenue SW, Washington, DC 20591; telephone: (202) 267-7378.

SUPPLEMENTARY INFORMATION:

Background

In March 2012, in accordance with NEPA and its implementing regulations, the USAF and Army released a Draft EIS. The Draft EIS presented the potential environmental consequences of the USAF and Army's proposal to modernize and enhance JPARC ranges by analyzing the military training activities at JPARC, Alaska. As a result of the FAA aeronautical review process, and public, agency, and tribal comments during the 111-day public comment period on the Draft EIS, the USAF, FAA, other federal and state agencies, and tribal governments have consulted to mitigate concerns while continuing to meet national defense training requirements. The USAF and Army are the proponents for the JPARC Modernization and were the lead agencies for the preparation of the Final EIS, which was issued in June 2013. The FAA is a cooperating agency responsible for approving SUA as defined in 40 CFR 1508.5.

The FAA has independently evaluated the JPARC Final EIS and the accompanying SUA proposals. FAA found that the USAF SUA proposals are ripe for a decision while the Army SUA proposals are currently still undergoing aeronautical processing and development. Therefore, the scope and extent of FAA's Record of Decision (ROD) is only for the USAF SUA proposals.

The USAF and Army issued one ROD. The ROD lists the Army and USAF actions and decisions separately. The ROD includes an Army Decision, signed July 30, 2013, and an USAF Decision signed August 6, 2013. The USAF selected the preferred alternatives for the Fox 3 MOA Expansion and New Paxon MOA, Realistic Live Ordnance Delivery (RLOD), and Night Joint Training (NJT). The Army/USAF ROD also lists mitigation measures by agency and specific action. The USAF has since decided they do not currently plan to implement RLOD, and they have not submitted an aeronautical proposal for the expansion of R-2202 necessary for RLOD.

Implementation

After evaluating the public comments received, the aeronautical studies, and the environmental analysis, the FAA is expanding the Fox 3 Military Operations Area (MOA), establishing the Paxon and Delta 5 MOAs, and extending the times of use of the existing JPARC MOAs for NJT.

FAA circularized the proposed actions from February 24, 2105 through May 10, 2015. After the conclusion of the circularization comment period and FAA's Aeronautical Study, the FAA changed the name of Paxon B MOA to Delta 5 MOA and deleted the Visual Flight Rules (VFR) Corridor in the interest of safety. The name change and the elimination of the VFR Corridor mitigation do not change the SUA request or the analysis done in the Final EIS and the Aeronautical Study. The modification did not change the area of analysis; therefore, the environmental and aeronautical analyses are still valid. The legal descriptions for the JPARC MOAs will be published in the National Flight Data Digest with a November 8, 2018 effective date. The August 29, 2018 Written Re-Evaluation/Adoption/ROD is available on the FAA website and can be viewed at https://www.faa.gov/air_traffic/environmental_issues/.

Right of Appeal

The Written Re-evaluation, Adoption, and ROD for the changes to the JPARC MOAs constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the date of this notice in accordance with the provisions of 49 U.S.C. 46110.

Issued in Des Moines, WA on October 26, 2018.
Shawn Kozica,
Manager, Operations Support Group, Western Service Center, Air Traffic Organization.

[FR Doc. 2018-24050 Filed 11-1-18; 8:45 am]

BILLING CODE 4910-13-P